ENVIRONMENTAL PROTECTION AGENCY

40 CFR Part 80

[EPA-HQ-OAR-2005-0161; FRL-9169-9]

RIN 2060-AQ31

Regulation of Fuels and Fuel Additives: Modifications to Renewable Fuel Standard Program

AGENCY: Environmental Protection Agency (EPA).

ACTION: Partial withdrawal of direct final rule.

SUMMARY: EPA published a direct final rule to amend the Renewable Fuel Standard program requirements on May 10, 2010. Because EPA received adverse comment, we are withdrawing several provisions of the direct final rule.

DATES: Effective June 30, 2010, EPA withdraws the definitions of “actual peak capacity,” “baseline volume,” and “permitted capacity” from 40 CFR 80.1401, and the amendments to 40 CFR 80.1403(a), 80.1425 introductory text and paragraph (i), 80.1426(d)(1) introductory text, 80.1426 Table 2, 80.1426(f)(3)(iv), 80.1426(f)(3)(v), 80.1426(f)(12), 80.1452(b) introductory text, (b)(2), (b)(4), (b)(6), (b)(9), (b)(13), and (b)(15), and 80.1452(c) introductory text, (c)(4), (c)(5), and (c)(7), that were published at 75 FR 26026 on May 10, 2010.

FOR FURTHER INFORMATION CONTACT: Megan Brachtl, Compliance and Innovative Strategies Division, Office of Transportation and Air Quality (Mail Code: 6405J), Environmental Protection Agency, 1200 Pennsylvania Avenue, NW., Washington, DC 20460; telephone number: (202) 343-9473; fax number: (202) 343-2802; e-mail address: brachtl.megan@epa.gov.

SUPPLEMENTARY INFORMATION: Because EPA received adverse comment, we are withdrawing several provisions of the direct final rule to amend the Renewable Fuel Standard program requirements, published on May 10, 2010. We stated in that direct final rule that if we received adverse comment by June 9, 2010, the portion of the direct final rule on which adverse comment was received would not take effect, and we would publish a timely withdrawal of such portions of the direct final rule in the Federal Register.

We subsequently received adverse comment on the following provisions: Certain of the amendments to 40 CFR 80.1401 (moved the definitions of “actual peak capacity,” “baseline volume,” and “permitted capacity” from 40 CFR 80.1403(a), revised the definition of “actual peak capacity” to clarify how it is calculated and revised the definition of “permitted capacity” to clarify the dates before which permits used to establish a facility's permitted capacity must have been issued or revised); 40 CFR 80.1425 (clarified that RINs generated after July 1, 2010, may only be generated and transferred using the EPA-Moderated Transaction System (EMTS) and will not be identified by a 38-digit code and that the value of EEEEEEEE in a batch-RIN will be determined by the number of gallon-RINs generated for the batch); 40 CFR 80.1426(d)(1), 80.1426(f)(3)(iv), and 80.1426(f)(3)(v) (clarified that a unique BBBBB code in the RIN, or its equivalent in EMTS, is used to identify a batch of renewable fuel from a given renewable fuel producer or importer); 40 CFR 80.1426 Table 2 (clarified the extent to which renewable fuel producers must use certain advanced technologies in order for them to be considered when determining the proper D code for their fuel); 40 CFR 80.1426(f)(12) (clarified the requirements for gas to be considered biogas for purposes of determining a renewable fuel's D code); 40 CFR 80.1452(b) (clarified that RINs must be generated in EMTS within five (5) business days of being assigned to a batch of renewable fuel and clarified the information required to be submitted via EMTS for each batch of renewable fuel produced or imported); and, 40 CFR 80.1452(c) (clarified that transactions involving RINs generated on or after July 1, 2010 must be conducted via EMTS within five (5) business days of a reportable event, and clarified the meaning of the term “reportable event” and the information required to be submitted via EMTS for each transaction involving RINs generated on or after July 1, 2010).

EPA published a parallel proposed rule on the same day as the direct final rule. The proposed rule invited comment on the substance of the direct final rule. We will address the comments received on the portions of the direct final rule listed above in a subsequent final action based on the parallel proposed rule also published on May 10, 2010 (75 FR 26049). The provisions for which we did not receive adverse comment will become effective on July 1, 2010, as provided in the May 10, 2010, direct final rule.

Dated: June 24, 2010.
Lisa P. Jackson,
Administrator.

PART 80—REGULATION OF FUELS AND FUEL ADDITIVES

Accordingly, the definitions of “actual peak capacity,” “baseline volume,” and “permitted capacity” in 40 CFR 80.1401, and the amendments to 40 CFR 80.1403(a), 80.1425 introductory text and paragraph (i), 80.1426(d)(1) introductory text, 80.1426 Table 2, 80.1426(f)(3)(iv), 80.1426(f)(3)(v), 80.1426(f)(12), 80.1452(b) introductory text, (b)(2), (b)(4), (b)(6), (b)(9), (b)(13), and (b)(15), and 80.1452(c) introductory text, (c)(4), (c)(5), and (c)(7), that were published on May 10, 2010 (75 FR 26026) are withdrawn as of June 30, 2010.

[FR Doc. 2010-15881 Filed 6-29-10; 8:45 am]

BILLING CODE 6560-50-P